DEPARTMENT OF JUSTICE

Parole Commission

Sunshine Act Meeting

TIME AND DATE: 11 a.m., Tuesday, May 10, 2011.

PLACE: U.S. Parole Commission, 5550 Friendship Boulevard, Chevy Chase, Maryland.

STATUS: Closed.

MATTERS TO BE CONSIDERED: Determinations on three petitions for reconsideration in original jurisdiction cases (28 CFR 2.27).

CONTACT PERSON FOR MORE INFORMATION: Patricia W. Moore, Staff Assistant to the Chairman, U.S. Parole Commission, 5550 Friendship Boulevard, Chevy Chase, Maryland 20815, (301) 492-5933.

Dated: April 28, 2011.
Rockne Chickinell,
General Counsel, U.S. Parole Commission.

[FR Doc. 2011-10819 Filed 4-29-11; 11:15 am]

BILLING CODE 4410-31-P